SURFACE TRANSPORTATION BOARD

[Docket No. AB 312 (Sub-No. 6X); Docket No. AB 1000 (Sub-No. 5X)]

South Carolina Central Railroad Company, LLC—Abandonment Exemption—in Muscogee County, Ga.; Georgia Southwestern Railroad, Inc.—Discontinuance Exemption—in Muscogee County, Ga.

South Carolina Central Railroad Company, LLC (SCRF), and Georgia Southwestern Railroad, Inc. (GSWR) (collectively, Applicants), have jointly filed a verified notice of exemption under 49 CFR part 1152 subpart F—Exempt Abandonments and Discontinuances of Service for SCRF to abandon, and for GSWR to discontinue service over, approximately 2.17 miles of rail line, which includes the Dummy Line, extending from Milepost 0.60/Value Station 91+21 to the end of the line at Value Station 41+60, and the Georgia Power Lead Track, extending from Value Station 0+00/59+79 to the end of the line at Value Station 41+61 in Muscogee County, Ga. (collectively, the Line).¹ The Line has no stations and traverses U.S. Postal Service Zip Code 31901.

¹ According to the Applicants, SCRF owns a perpetual freight easement for the Line and the physical assets are owned by the Georgia Department of Transportation (GDOT), but GDOT does not hold a residual common carrier obligation over the Line. See State of Ga., Dep't of Transp.—Acquis. Exemption—S.C. Cent. R.R., FD 34057 (STB served Apr. 23, 2002).

Applicants have certified that: (1) no local traffic has moved over the Line since 2016; (2) no overhead traffic exists on the Line because it is stub-ended; (3) no formal complaint filed by a user of rail service on the Line (or by a state or local government entity acting on behalf of such user) regarding cessation of service over the Line is pending with either the Surface Transportation Board (Board) or with any U.S. District Court or has been decided in favor of a complainant within the two-year period; and (4) the requirements at 49 CFR 1105.7(b) and 1105.8(c) (notice of environmental and historic reports), 49 CFR 1105.12 (newspaper publication), and 49 CFR 1152.50(d)(1) (notice to government agencies) have been met.

As a condition to these exemptions, any employee adversely affected by the abandonment or discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received,² these exemptions will be effective on January 2, 2026, unless stayed pending reconsideration. Petitions to stay that do not involve environmental issues,³ must be filed by December 12, 2025. Formal expressions of intent to file an OFA under 49 CFR 1152.27(c)(2) and interim trail use/railbanking requests under 49 CFR 1152.29 must be filed by December 15, 2025.⁴ Petitions to reopen or requests for public use conditions under 49 CFR 1152.28 must be filed by December 23, 2025.

² Persons interested in submitting an OFA must first file a formal expression of intent to file an offer, indicating the type of financial assistance they wish to provide (i.e., subsidy or purchase) and demonstrating that they are preliminarily financially responsible. See 49 CFR 1152.27(c)(2)(i).

³ The Board will grant a stay if an informed decision on environmental issues (whether raised by a party or by the Board's Office of Environmental Analysis (OEA) in its independent investigation) cannot be made before the effective date of the exemptions. See Exemption of Out-of-Serv. Rail Lines, 5 I.C.C.2d 377 (1989). Any request to stay should be filed as soon as possible so that the Board may take appropriate action before the effective date of the exemptions.

⁴ Filing fees for OFAs and trail use requests can be found at 49 CFR 1002.2(f)(25) and (27), respectively.

All pleadings, referring to Docket Nos. AB 312 (Sub-No. 6X) and AB 1000 (Sub-No. 5X), must be filed with the Surface Transportation Board either via e-filing on the Board's website or in writing addressed to 395 E Street SW, Washington, DC 20423-0001. In addition, a copy of each pleading must be served on Applicants' representative, Justin J. Marks, Clark Hill PLC, 1001 Pennsylvania Ave. NW, Suite 1300 South, Washington, DC 20004.

If the verified notice contains false or misleading information, the exemptions are void ab initio.

SCRF has filed a combined environmental and historic report that addresses the potential effects, if any, of the abandonment on the environment and historic resources. OEA will issue a Draft Environmental Assessment (Draft EA) by December 8, 2025. The Draft EA will be available to interested persons on the Board's website, by writing to OEA, or by calling OEA at (202) 245-0294. If you require an accommodation under the Americans with Disabilities Act, please call (202) 245-0245. Comments on environmental and historic preservation matters must be filed within 15 days after the Draft EA becomes available to the public.

Environmental, historic preservation, public use, or interim trail use/railbanking conditions will be imposed, where appropriate, in a subsequent decision.

Pursuant to the provisions of 49 CFR 1152.29(e)(2), SCRF shall file a notice of consummation with the Board to signify that it has exercised the authority granted and fully abandoned the Line. If consummation has not been effected by SCRF's filing of a notice of consummation by December 3, 2026, and there are no legal or regulatory barriers to consummation, the authority to abandon will automatically expire.

Board decisions and notices are available at www.stb.gov.

Decided: November 28, 2025.
By the Board, Anika S. Cooper, Chief Counsel, Office of Chief Counsel.
Aretha Laws-Byrum,
Clearance Clerk.

[FR Doc. 2025-21772 Filed 12-2-25; 8:45 am]

BILLING CODE 4915-01-P